DEPARTMENT OF COMMERCE

International Trade Administration

[A-351-840]

Certain Orange Juice From Brazil: Final Results of Antidumping Duty Changed Circumstances Review

AGENCY: Import Administration, International Trade Administration, Department of Commerce.

DATES: Effective Date: January 27, 2009.

SUMMARY: The Department of Commerce (the Department) has conducted a changed circumstances review on certain orange juice (OJ) from Brazil to determine whether the antidumping duty order should be revoked with respect to imports of ultra low pulp orange juice (ULPOJ). On October 10, 2008, the Department published the preliminary results of its changed circumstances review, in which we found that there was sufficient interest on the part of the domestic industry to justify maintaining the order with respect to ULPOJ. See Certain Orange Juice from Brazil: Preliminary Results of Antidumping Duty Changed Circumstances Review and Intent Not to Revoke, In Part, 73 FR 60241 (Oct. 10, 2008) (Preliminary Results).

We invited parties to comment on our preliminary results of review. Based on our analysis of the comments received, we have not changed the final results from those presented in the Preliminary Results.

FOR FURTHER INFORMATION CONTACT: Elizabeth Eastwood or Henry Almond; AD/CVD Operations, Office 2, Import Administration, International Trade Administration, U.S. Department of Commerce, 14th Street and Constitution Avenue, NW., Washington, DC 20230; telephone: (202) 482-3874 or (202) 482-0049, respectively.

SUPPLEMENTARY INFORMATION:

Background

On March 9, 2006, the Department published in the Federal Register an antidumping duty order on OJ from Brazil. See Antidumping Duty Order: Certain Orange Juice From Brazil, 72 FR 12183 (Mar. 9, 2006).

On April 29, 2008, at the request of Tropicana Products, Inc. (Tropicana), a domestic producer of orange juice, the Department initiated a changed circumstances review of the order to consider partially revoking the order with respect to ULPOJ, pursuant to section 751(b)(1) of the Tariff Act of 1930, as amended (the Act), and 19 CFR 351.216(b) and 351.222(g)(1)(i). See Certain Orange Juice From Brazil: Initiation of Antidumping Duty Changed Circumstances Review, 73 FR 23182 (Apr. 29, 2008). On October 10, 2008, the Department published the preliminary results of this changed circumstances review. See Preliminary Results, 73 FR 60241. In the Preliminary Results, we found that there was sufficient interest on the part of the domestic OJ industry to justify maintaining the order with respect to ULPOJ.

We invited parties to comment on our preliminary results of review. In November 2008, we received case and rebuttal briefs from Tropicana and the petitioners in this case (i.e., Florida Citrus Mutual, A. Duda & Sons, Inc. (doing business as Citrus Belle), and Citrus World, Inc.).¹ Based on our analysis of the comments received, we have not changed the final results from those presented in the Preliminary Results.

¹ These entities are opposing revocation of the order in part in this changed circumstances review; however, another petitioner, Southern Gardens Citrus Processing Corporation, has not joined these entities in opposing Tropicana's request.

Scope of the Order

The scope of this order includes certain orange juice for transport and/or further manufacturing, produced in two different forms: (1) Frozen orange juice in a highly concentrated form, sometimes referred to as frozen concentrated orange juice for manufacture (FCOJM); and (2) pasteurized single-strength orange juice which has not been concentrated, referred to as not-from-concentrate (NFC). At the time of the filing of the petition, there was an existing antidumping duty order on frozen concentrated orange juice (FCOJ) from Brazil. See Antidumping Duty Order; Frozen Concentrated Orange Juice from Brazil, 52 FR 16426 (May 5, 1987). Therefore, the scope of this order with regard to FCOJM covers only FCOJM produced and/or exported by those companies which were excluded or revoked from the pre-existing antidumping order on FCOJ from Brazil as of December 27, 2004. Those companies are Cargill Citrus Limitada; Coinbra-Frutesp S.A.; Sucocitrico Cutrale, S.A.; Fischer S.A. Comercio, Industria and Agricutura; and Montecitrus Trading S.A.

Excluded from the scope of the order are reconstituted orange juice and frozen concentrated orange juice for retail (FCOJR). Reconstituted orange juice is produced through further manufacture of FCOJM, by adding water, oils and essences to the orange juice concentrate. FCOJR is concentrated orange juice, typically at 42 Brix, in a frozen state, packed in retail-sized containers ready for sale to consumers. FCOJR, a finished consumer product, is produced through further manufacture of FCOJM, a bulk manufacturer's product.

The subject merchandise is currently classifiable under subheadings 2009.11.00, 2009.12.25, 2009.12.45, and 2009.19.00 of the Harmonized Tariff Schedule of the United States (HTSUS). These HTSUS subheadings are provided for convenience and for customs purposes only and are not dispositive. Rather, the written description of the scope of the order is dispositive.

Scope of Changed Circumstances Review

The product subject to this changed circumstances review is ULPOJ, which is concentrated orange juice with a pulp content of two percent or less by weight/volume on an 11.8 degree brix equivalent base. This product is a form of FCOJM and is commonly used in the manufacture of soft drink concentrates.

Analysis of Comments Received

All issues raised in the case and rebuttal briefs by parties to this changed circumstances review, and to which we have responded, are listed in the Appendix to this notice and addressed in the Issues and Decision Memorandum (Decision Memo), which is adopted by this notice. Parties can find a complete discussion of all issues raised in this review and the corresponding recommendations in this public memorandum, which is on file in the Central Records Unit, room 1117, of the main Department Building.

In addition, a complete version of the Decision Memo can be accessed directly on the Web at http://ia.ita.doc.gov/frn/. The paper copy and electronic version of the Decision Memo are identical in content.

Final Results of Changed Circumstances Review

More than 15 percent of the domestic industry has expressed opposition to excluding ULPOJ from the antidumping duty order on OJ from Brazil. As a result, we determine that producers accounting for substantially all of the production of the domestic like product have not expressed a lack of interest in maintaining the order with respect to ULPOJ. Thus, we find that changed circumstances sufficient to warrant revocation in part of the antidumping duty order on OJ from Brazil do not exist. The current requirements for the cash deposit of estimated antidumping duties on the subject merchandise will remain in effect until further notice.

This notice also serves as a reminder to parties subject to administrative protective orders (APOs) of their responsibility concerning the disposition of proprietary information disclosed under APO in accordance with 19 CFR 351.306. Timely written notification of the return/destruction of APO materials or conversion to judicial protective order is hereby requested. Failure to comply with the regulations and terms of an APO is a sanctionable violation.

We are issuing and publishing this notice in accordance with sections 751(b)(1) and 777(i)(1) of the Act and 19 CFR 351.216.

Dated: January 16, 2009.
Ronald K. Lorentzen,
Acting Assistant Secretary for Import Administration.

Appendix—Issue in the Decision Memorandum

Issue: Whether the Department Should Include Growers in its Industry Support Determination.

[FR Doc. E9-1586 Filed 1-26-09; 8:45 am]

BILLING CODE 3510-DS-P